DEPARTMENT OF AGRICULTURE

Office of the Secretary

Notice of Appointment of Members to the National Agricultural Research, Extension, Education, and Economics Advisory Board

AGENCY: Research, Education, and Economics, USDA.

ACTION: Appointment of members.

SUMMARY: In accordance with the Federal Advisory Committee Act, 5 U.S.C. App 2, the United States Department of Agriculture announces the appointments made by the Secretary of Agriculture to fill 10 vacancies on the National Agricultural Research, Extension, Education, and Economics Advisory Board.

DATES: Appointments by the Secretary of Agriculture are for 2-, or 3-year terms effective October 1, 2012.

ADDRESSES: National Agricultural Research, Extension, Education, and Economics Advisory Board; Research Extension, Education, and Economics Advisory Board Office, Room 3901, South Building, U.S. Department of Agriculture; STOP 3401; 1400 Independence Avenue SW., Washington, DC 20250-2255

FOR FURTHER INFORMATION CONTACT: Robert Burk, Executive Director, Research, Education, and Economics Advisory Board Office, Room 3901, South Building, U.S. Department of Agriculture; STOP 3401; 1400 Independence Avenue SW., Washington, DC 20250-2255 Telephone: 202-720-3684. Fax: 202-720-6199, or email: robert.burk@usda.gov.

SUPPLEMENTARY INFORMATION: Section 802 of the Federal Agricultural Improvement and Reform Act of 1996 authorized the creation of the National Agricultural Research, Extension, Education, and Economics Advisory Board. The Board is composed of 25 members, each representing a specific category related to agriculture. The Board was first appointed in September 1996 and at the time one-third of the original members were appointed for one, two, and three-year term, respectively. Due to the staggered appointments, the terms for 9 of the 25 members expired September 30, 2012. One additional member position was vacated mid-term. Each member is appointed by the Secretary of Agriculture to a specific category on the Board, including farming or ranching, food production and processing, forestry research, crop and animal science, land-grant institutions, non-land grant college or university with a historic commitment to research in the food and agricultural sciences, food retailing and marketing, rural economic development, and natural resource and consumer interest groups, among many others. Appointees by vacancy category of the 10 appointments are as follows: Category A. “National Farm Organization,” Ralph Paige, Executive Director, Federation of Southern Cooperatives Land Assistance Fund, East Point, GA; Category C. “Food Animal Commodity Producer,” Wathina M. Luthi, Owner/Manager, Luthi Farms, LLC., Fargo, OK; Category E. “National Aquaculture Association,” Jeremy Liley, President/Aquatic Biologist, Liley Fisheries and Aquatic Consulting, Windsor, CO; Category I. “National Human Health Association,” Patsy Brannon, Professor/Nutritionist, Cornell University, Ithaca, NY; Category N. “Non-Land Grant College or University w/historic commitment to research in food and agricultural sciences,” Charles Boyer, Dean, Jordan College of Agriculture and Technology, California State University-Fresno, Fresno, CA; Category O. “Hispanic-serving Institutions,” Agnes Mojica, Chancellor, Inter American University of Puerto Rico, San Juan, PR; Category Q. “Transportation of Food and Agricultural Products to domestic and foreign markets,” Leo Holt, President, Holt Logistics Corporation, Gloucester City, NJ; Category R. “Food Retailing and Marketing Interests,” Nancy Childs, Professor of Food Marketing, Saint Joseph's University, Haub School of Business, Philadelphia, PA; Category S. “Food and Fiber Processors,” Julia Sabin, Vice President, J.M. Smucker, Akron, OH; and Category X. “Private Sector Organization involved in International Development,” Steven Hamburg, Chief Scientist, Environmental Defense Fund, New York, NY.

Done at Washington, DC, this 25th day of February 2013.
Catherine Woteki,
Under Secretary, Research, Education, and Economics.

[FR Doc. 2013-04884 Filed 3-1-13; 8:45 am]

BILLING CODE 3410-03-P